DEPARTMENT OF THE TREASURY

Internal Revenue Service

Advisory Group to the Commissioner of Internal Revenue; Meeting

AGENCY: Internal Revenue Service (IRS), Treasury.

ACTION: Notice.

SUMMARY: The Information Reporting Program Advisory Committee (IRPAC) will hold a public meeting on Friday November 8, 2002.

FOR FURTHER INFORMATION CONTACT: Ms. Lorenza Wilds, National Public Liaison, CL:NPL:PAC, Room 7567 IR, 1111 Constitution Avenue, NW., Washington, DC 20224. Telephone: (202) 622-5188 (not a toll-free number). E-mail address: *public_liaison@irs.gov.

SUPPLEMENTARY INFORMATION: Notice is hereby given pursuant to section 10(a)(2) of the Federal Advisory Committee Act, 5 U.S.C. App. (1988), a public meeting of the IRPAC will be held on Friday, November 8, 2002, from 9:00 a.m. to 4:00 p.m. in Room 2140, main Internal Revenue Service building, 1111 Constitution Avenue, NW., Washington, DC 20224. Issues to be discussed include: Tax Reporting Requirements for Required Minimum Distributions (RMD), Establishing Electronic Filing of the Form 990 Series as a Priority Because of its Far Reaching Impact on All Taxpayers, Expand the TIN Matching System to Allow Payers of Designated Distributions to Use the System, Sales of Single Stock Futures Should Not be Subject to Gross Proceeds Reporting on Form 1099-B, Schedule K-1 Enhancements, Eliminate Bad Debt Line on Schedule C, Separate Form W-4 for Nonresidents Aliens, and Penalties for Incorrect SSN Reported on Form W-2. Reports from the four IRPAC sub-groups, Tax Exempt & Government Entities, Large and Mid-size Business, Small Business/Self-Employed, and Wage & Investment, will also be presented and discussed. Last minute agenda changes may preclude advance notice. The meeting room accommodates approximately 50 people, IRPAC members and Internal Revenue Service officials inclusive. Due to limited seating and security requirements, please call Lorenza Wilds to confirm your attendance. Ms. Wilds can be reached at (202) 622-5188. Attendees are encouraged to arrive at least 30 minutes before the meeting begins to allow sufficient time for purposes of security clearance. Please use the main entrance at 1111 Constitution Avenue to enter the building. Should you wish the IRPAC to consider a written statement, please call (202) 622-5188, or write to: Internal Revenue Service, Office of National Public Liaison, CL:NPL:PAC, 1111 Constitution Avenue, NW., Room 7567 IR, Washington, DC 20224 or e-mail: *public_liaison@irs.gov.

Dated: October 17, 2002.
Nancy A. Thoma,
Designated Federal Official, Branch Chief, Planning & Advisory Councils.

[FR Doc. 02-27043 Filed 10-22-02; 8:45 am]

BILLING CODE 4830-01-P